DEPARTMENT OF THE INTERIOR

National Park Service

[NPS-WASO-NAGPRA-NPS0039154; PPWOCRADN0-PCU00RP14.R50000]

Notice of Intended Repatriation Amendment: New York State Museum, Albany, NY

AGENCY: National Park Service, Interior.

ACTION: Notice.

SUMMARY: In accordance with the Native American Graves Protection and Repatriation Act (NAGPRA), the New York State Museum has amended a Notice of Intended Repatriation published in the Federal Register on August 13, 2024. This notice amends the Indian Tribes or Native Hawaiian organizations with cultural affiliation.

DATES: Repatriation of the cultural items in this notice may occur on or after January 6, 2025.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the New York State Museum, and additional information on the determinations in this notice, including the results of consultation, can be found in the summary or related records. The National Park Service is not responsible for the determinations in this notice.

Amendment

This notice amends the determination of cultural affiliation published in a Notice of Intent to Repatriate Cultural Items in the Federal Register (89 FR 65926-65927, August 13, 2024). Repatriation of an item in the original Notice of Intended Repatriation, a pottery pipe from the Treadway site, Jefferson County, NY, has not occurred. This notice amends the Indian Tribes listed in the determinations section. Additional information of cultural affiliation was provided to support the addition of the Oneida Indian Nation.

Determinations (as Amended)

The New York State Museum has determined that:

• There is a reasonable connection between the cultural item in this notice and the Onondaga Nation and the Oneida Indian Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 6, 2025. If competing requests for repatriation are received, the California State University, Sacramento must determine the most appropriate requestor prior to repatriation. Requests for joint repatriation of the cultural items are considered a single request and not competing requests. The New York State Museum is responsible for sending a copy of this notice to the Indian Tribes and Native Hawaiian organizations identified in this notice.

Authority: Native American Graves Protection and Repatriation Act, 25 U.S.C. 3004, and the implementing regulations, 43 CFR 10.9.

Dated: November 22, 2024.
Melanie O'Brien,
Manager, National NAGPRA Program.

[FR Doc. 2024-28490 Filed 12-4-24; 8:45 am]

BILLING CODE 4312-52-P